DEPARTMENT OF COMMERCE

International Trade Administration

[A-122-875, A-201-867, A-570-219, C-122-876, C-201-868, C-570-218]

Notice of Extension of the Deadline for Determining the Adequacy of the Antidumping and Countervailing Duty Petitions: Certain Van-Type Trailers and Subassemblies Thereof From Canada, Mexico, and the People's Republic of China

AGENCY: Enforcement and Compliance, International Trade Administration, Department of Commerce.

DATES: Applicable December 31, 2025.

FOR FURTHER INFORMATION CONTACT: Maria Theresa Aymerich at (202) 482-0499 (Canada AD); Kelsie Hohenberger at (202) 482-2517 or Olivia Woolverton at (202) 482-7452 (Canada CVD); Thomas Gilgunn at (202) 482-4236 (Mexico AD); Suresh Maniam at (202) 482-0176 (Mexico CVD); Jacob Waddell at (202) 482-1369 (the People's Republic of China (China) AD); Alice Maldonado (202) 482-5882 (China CVD), AD/CVD Operations, Enforcement and Compliance, International Trade Administration, U.S. Department of Commerce, 1401 Constitution Avenue NW, Washington, DC 20230.

Extension of Initiation of Investigations

The Petitions

On November 20, 2025, the U.S. Department of Commerce (Commerce) received antidumping and countervailing duty petitions on imports of certain van-type trailers and subassemblies thereof (van-type trailers) from Canada, Mexico, and China filed in proper form on behalf of the American Trailer Manufacturers Coalition (the petitioner),¹ the members of which are domestic producers of van-type trailers.²

¹ The members of the American Trailer Manufacturers Coalition are Great Dane LLC, Stoughton Trailers LLC, and Wabash National Corporation.

² See Petitioner's Letter, “Petitions for the Imposition of Antidumping and Countervailing Duties on Imports of Van-Type Trailers and Subassemblies Thereof from Canada, Mexico, and the People's Republic of China,” dated November 20, 2025 (Petitions).

Due to a backlog of documents that were electronically filed via Enforcement and Compliance's Antidumping and Countervailing Duty Centralized Electronic Service System (ACCESS) during the Federal Government shutdown, on November 24, 2025, Commerce tolled all deadlines in administrative proceedings by 21 days.³

³ See Memorandum, “Tolling of All Case Deadlines,” dated November 24, 2025.

Determination of Industry Support for the Petitions

Sections 702(b)(1) and 732(b)(1) of the Tariff Act of 1930, as amended (the Act), require that a petition be filed by or on behalf of the domestic industry. To determine that the petition has been filed by or on behalf of the industry, sections 702(c)(4)(A) and 732(c)(4)(A) of the Act require that the domestic producers or workers who support the petition account for: (i) at least 25 percent of the total production of the domestic like product; and (ii) more than 50 percent of the production of the domestic like product produced by that portion of the industry expressing support for, or opposition to, the petition. Moreover, sections 702(c)(4)(D) and 732(c)(4)(D) of the Act provide that, if the petition does not establish support of domestic producers or workers accounting for more than 50 percent of the total production of the domestic like product, Commerce shall: (i) poll the industry or rely on other information in order to determine if there is support for the petition, as required by subparagraph (A); or (ii) if there is a large number of producers, determine industry support using a statistically valid sampling method to poll the industry.

Extension of Time

Sections 702(c)(1)(A) and 732(c)(1)(A) of the Act provide that within 20 days of the filing of an antidumping or countervailing duty petition, Commerce will determine, inter alia, whether the petition has been filed by or on behalf of the U.S. industry producing the domestic like product. Sections 702(c)(1)(B) and 732(c)(1)(B) of the Act provide that the deadline for the initiation determination, in exceptional circumstances, may be extended by 20 days in any case in which Commerce must “poll or otherwise determine support for the petition by the industry.” Because it is not clear from the Petitions whether the industry support criteria have been met, Commerce has determined it should extend the time period for determining whether to initiate the investigations in order to further examine the issue of industry support.

Commerce will need additional time to gather and analyze additional information regarding industry support. Therefore, it is necessary to extend the deadline for determining the adequacy of the Petitions by an additional 20 days. As a result, in accordance with sections 702(c)(1)(B) and 732(c)(1)(B) of the Act, Commerce's initiation determination will now be due no later than January 20, 2026.

International Trade Commission Notification

Commerce will contact the U.S. International Trade Commission (ITC) and will make this extension notice available to the ITC.

Dated: December 31, 2025.
Scot Fullerton,
Acting Deputy Assistant Secretary for Antidumping and Countervailing Duty Operations.

[FR Doc. 2025-24281 Filed 1-2-26; 8:45 am]

BILLING CODE 3510-DS-P